ENVIRONMENTAL PROTECTION AGENCY

[FRL-7515-1]

Clean Water Act Section 303(d): Availability of List Decision

AGENCY: Environmental Protection Agency (EPA).

ACTION: Notice of availability and opportunity to comment.

SUMMARY: This notice announces the availability of EPA's decision identifying water quality limited segments and associated pollutants in Wisconsin to be listed pursuant to the Clean Water Act section 303(d)(2), and requests public comment. Section 303(d)(2) requires that states submit and EPA approve or disapprove lists of waters for which existing technology-based pollution controls are not stringent enough to attain or maintain state water quality standards and for which total maximum daily loads (TMDLs) must be prepared.

On May 19, 2003, EPA partially approved and partially disapproved Wisconsin's submittal. Specifically, EPA approved Wisconsin's listing of 596 waters, associated pollutants, and associated priority rankings. EPA disapproved Wisconsin's decision not to list ten water quality limited segments and associated pollutants. EPA identified these additional water bodies and pollutants along with priority rankings for inclusion on the 2002 section 303(d) list.

EPA is providing the public the opportunity to review its decision to add waters and pollutants to Wisconsin's 2002 section 303(d) list, as required by EPA's Public Participation regulations. EPA will consider public comments in reaching its final decision on the additional water bodies and pollutants identified for inclusion on Wisconsin's final list.

DATES: Comments on this document must be received in writing by July 21, 2003.

ADDRESSES: Written comments on today's notice may be submitted to Jo Lynn Traub, Director, Water Division, Attn: Wisconsin 303(d) list, U.S. Environmental Protection Agency, 77 West Jackson Boulevard, Chicago, Illinois 60604. As an alternative, EPA will accept comments electronically. Comments should be sent to the following Internet Email Address: keclik.donna@epa.gov.

FOR FURTHER INFORMATION CONTACT: Donna Keclik, Watersheds and Wetlands Branch, at the EPA address noted above or by telephone at (312) 886-6766.

SUPPLEMENTARY INFORMATION: Section 303(d) of the Clean Water Act (CWA) requires that each state identify those waters for which existing technology-based pollution controls are not stringent enough to attain or maintain state water quality standards. For those waters, states are required to establish TMDLs according to a priority ranking.

EPA's Water Quality Planning and Management regulations include requirements related to the implementation of section 303(d) of the CWA (40 CFR 130.7). The regulations require states to identify water quality limited waters still requiring TMDLs every two years. The lists of waters still needing TMDLs must also include priority rankings and must identify the waters targeted for TMDL development during the next two years (40 CFR 130.7). On March 31, 2000 EPA promulgated a revision to this regulation that waived the requirement for states to submit section 303(d) lists in 2000 except in cases where a court order, consent decree, or settlement agreement required EPA to take action on a list in 2000 (65 FR 17170).

Consistent with EPA's regulations, Wisconsin submitted to EPA its listing decision under section 303(d)(2) on November 4, 2002. On May 19, 2003, EPA approved Wisconsin's listing of 596 waters and associated priority rankings. EPA disapproved Wisconsin's decision not to list ten water quality limited segments and associated pollutants. EPA identified these additional waters and pollutants along with priority rankings for inclusion on the 2002 section 303(d) list. EPA solicits public comment on its identification of ten additional waters and associated pollutants for inclusion on Wisconsin's 2002 section 303(d) list.

Dated: June 12, 2003.
Timothy C. Henry,
Acting Director, Water Division, EPA Region 5.

[FR Doc. 03-15516 Filed 6-18-03; 8:45 am]

BILLING CODE 6560-50-P